DEPARTMENT OF THE INTERIOR

Fish and Wildlife Service

Receipt of 13 Applications for Incidental Take Permits for Residential Construction in Charlotte County, FL

AGENCY: Fish and Wildlife Service, Interior.

ACTION: Notice; request for comments.

SUMMARY: We, the Fish and Wildlife Service (Service), announce the availability of incidental take permit (ITP) and Habitat Conservation Plan (HCP). Peter Famulari, Robert Lavelle, and Jeffrey Leonard (Applicants) each request ITPs pursuant to section 10(a)(1)(B) of the Endangered Species Act of 1973, as amended (Act). The Applicants anticipate taking about 5.42 acres combined of Florida scrub-jay (Aphelocoma coerulescens) (scrub-jay) foraging and sheltering habitat incidental to lot preparation for the construction of 13 residential units and supporting infrastructure in Charlotte County, Florida (Project). The destruction of 5.42 acres of foraging and sheltering habitat is expected to result in the take of five families of scrub-jays. The Applicants' Habitat Conservation Plan (HCP) describes the mitigation and minimization measures proposed to address the effects of the Projects to the Florida scrub-jay.

DATES: Written comments on the ITP applications and HCP should be sent to the South Florida Ecological Services Office (see ADDRESSES) and should be received on or before December 7, 2006.

ADDRESSES: Persons wishing to review the applications and HCP may obtain a copy by writing the Service's South Florida Ecological Services Office. Please reference Deep Creek Batch HCP in such requests. Documents will also be available for public inspection by appointment during normal business hours at the South Florida Ecological Services Office, 1339 20th Street, Vero Beach, Florida 32960.

FOR FURTHER INFORMATION CONTACT: Ms. Trish Adams, Fish and Wildlife Biologist, South Florida Ecological Services Office, Vero Beach, Florida (see ADDRESSES), telephone: 772-562-3909, extension 232.

SUPPLEMENTARY INFORMATION: If you wish to comment, you may submit comments by any one of several methods. Please reference permit numbers TE136149-0, TE136150-0, TE136151-0, TE136153-0, TE136154-0, TE136155-0, TE136157-0, TE136158-0, TE136159-0, TE136160-0, TE136161-0, TE136162-0, and TE136163-0, in such comments. You may mail comments to the Service's South Florida Ecological Services Office (see ADDRESSES). You may also comment via the Internet to trish_adams@fws.gov. Please also include your name and return address in your Internet message. If you do not receive a confirmation from us that we have received your Internet message, contact us directly at the telephone number listed under FOR FURTHER INFORMATION CONTACT. Finally, you may hand deliver comments to the Service office listed under ADDRESSES. Our practice is to make comments, including names and home addresses of respondents, available for public review during regular business hours. Individual respondents may request that we withhold their home address from the administrative record. We will honor such requests to the extent allowable by law. There may also be other circumstances in which we would withhold from the administrative record a respondent's identity, as allowable by law. If you wish us to withhold your name and address, you must state this prominently at the beginning of your comments. We will not, however, consider anonymous comments. We will make all submissions from organizations or businesses, and from individuals identifying themselves as representatives or officials of organizations or businesses, available for public inspection in their entirety.

Residential construction for the Deep Creek Batch HCP will take place within Section 09, Township 40, Range 23, Punta Gorda, Charlotte County, Florida, on 13 lots. Each of these lots is within scrub-jay occupied habitat.

The lots combined encompass about 5.42 acres, and the footprint of the homes, infrastructure, and landscaping preclude retention of scrub-jay habitat on each of these respective lots. In order to minimize take on site, the Applicants propose to mitigate for the loss of 5.42 acre of scrub-jay habitat by contributing a total of $392,390 to the Florida Scrub-jay Conservation Fund administered by The Nature Conservancy or acquisition of 10.83 acres of credit at a Service approved conservation bank. The Florida Scrub-jay Conservation Fund is earmarked for use in the conservation and recovery of scrub-jays and may include habitat acquisition, restoration, and/or management.

The Service has determined that the Applicants' proposals, including the proposed mitigation and minimization measures, will individually and cumulatively have a minor or negligible effect on the species covered in the HCP. Therefore, the ITPs are “low-effect” projects and qualify as categorical exclusions under the National Environmental Policy Act (NEPA)(40 CFR 1506.6), as provided by the Department of the Interior Manual (516 DM 2 Appendix 1 and 516 DM 6 Appendix 1). This preliminary information may be revised based on our review of public comments that we receive in response to this notice. Low-effect HCPs are those involving (1) minor or negligible effects on federally listed or candidate species and their habitats, and (2) minor or negligible effects on other environmental values or resources.

The Service will evaluate the HCP and comments submitted thereon to determine whether the applications meet the requirements of section 10(a) of the Act (16 U.S.C. 1531 et. seq.). If it is determined that those requirements are met, the ITPs will be issued for the incidental take of the Florida scrub-jay. The Service will also evaluate whether issuance of the section 10(a)(1)(B) ITPs comply with section 7 of the Act by conducting an intra-Service section 7 consultation. The results of this consultation, in combination with the above findings, will be used in the final analysis to determine whether or not to issue the ITPs.

Authority: This notice is provided pursuant to Section 10 of the Endangered Species Act and NEPA regulations (40 CFR 1506.6).

Dated: October 5, 2006.
Paul Souza,
Field Supervisor, South Florida Ecological Services Office.

[FR Doc. E6-18766 Filed 11-6-06; 8:45 am]

BILLING CODE 4310-55-P